DEPARTMENT OF HEALTH AND HUMAN SERVICES

Food and Drug Administration

[Docket No. FDA-2009-N-0664]

Advisory Committees; Tentative Schedule of Meetings for 2010

AGENCY: Food and Drug Administration, HHS.

ACTION: Notice.

SUMMARY: The Food and Drug Administration (FDA) is announcing a tentative schedule of forthcoming meetings of its public advisory committees for 2010. During 1991, at the request of the Commissioner of Food and Drugs (the Commissioner), the Institute of Medicine (the IOM) conducted a study of the use of FDA's advisory committees. In its final report, one of the IOM's recommendations was for the agency to publish an annual tentative schedule of its meetings in the Federal Register. This publication implements the IOM's recommendation.

FOR FURTHER INFORMATION CONTACT: Teresa L. Hays, Advisory Committee Oversight and Management Staff (HF-4), Food and Drug Administration, 5600 Fishers Lane, Rockville, MD 20857, 301-827-1220.

SUPPLEMENTARY INFORMATION: The IOM, at the request of the Commissioner, undertook a study of the use of the FDA's advisory committees. In its final report in 1992, one of the IOM's recommendations was for FDA to adopt a policy of publishing an advance yearly schedule of its upcoming public advisory committee meetings in the Federal Register; FDA has implemented this recommendation. The annual publication of tentatively scheduled advisory committee meetings will provide both advisory committee members and the public with the opportunity, in advance, to schedule attendance at FDA's upcoming advisory committee meetings. Because the schedule is tentative amendments to this notice will not be published in the Federal Register. However, changes to the schedule will be posted on the FDA advisory committees' Internet site located at http://www.fda.gov/AdvisoryCommittees/default.htm. FDA will continue to publish a Federal Register notice 15 days in advance of each upcoming advisory committee meeting, to announce the meeting (21 CFR 14.20).

The following list announces FDA's tentatively scheduled advisory committee meetings for 2010. You may also obtain up-to-date information by calling the Advisory Committee Information Line, 1-800-741-8138 (301-443-0572 in the Washington, DC area) and use the appropriate Information Line Code for the committee in which you are interested.

Committee Name | Tentative Date of Meeting(s) | Advisory Committee 10-Digit Information Line Code
OFFICE OF THE COMMISSIONER
Pediatric Advisory Committee | March 22, June 21-22, September 20-21, December 6-7 | 8732310001
Risk Communication Advisory Committee | February 25-26, May 6-7, August 19-20, November 8-9 | 8732112560
Science Board to the Food and Drug Administration | February 22, May 17, August 16, November 15 | 3014512603
CENTER FOR BIOLOGICS EVALUATION AND RESEARCH
Allergenic Products Advisory Committee | April 30, October 26 | 3014512388
Blood Products Advisory Committee | April 12-13, July 26-27, November 18-19 | 3014519516
Cellular, Tissue and Gene Therapies Advisory Committee | To be announced | 3014512389
Transmissible Spongiform Encephalopathies Advisory Committee | To be announced | 3014512392
Vaccines and Related Biological Products Advisory Committee | February 22, May 19-20, September 15-16, November 17-18 | 3014512391
CENTER FOR DRUG EVALUATION AND RESEARCH
Anesthetic and Life Support Drugs Advisory Committee | January 28, April 22, April 23 | 3014512529
Anti Infective Drugs Advisory Committee | August and October dates To be announced | 3014512530
Antiviral Drugs Advisory Committee | To be announced | 3014512531
Arthritis Advisory Committee | May dates To be announced | 3014512532
Cardiovascular and Renal Drugs Advisory Committee | January 11, March 1, April dates to be announced, July 28, July 29, December 8, December 9 | 3014512533
Dermatologic and Ophthalmic Drugs Advisory Committee | To be announced | 3014512534
Drug Safety and Risk Management Advisory Committee | To be announced | 3014512535
Endocrinologic and Metabolic Drugs Advisory Committee | January 12, January 13, February 24, May 26-27 | 3014512536
Gastrointestinal Drugs Advisory Committee | February 23, November dates to be announced | 3014512538
Nonprescription Drugs Advisory Committee | To be announced | 3014512541
Oncologic Drugs Advisory Committee | February 10, May 4, May 5, July 20, July 21, September 1, September 2, December 1, December 2 | 3014512542
Peripheral and Central Nervous System Drugs Advisory Committee | March 23, March 24, June dates to be announced | 3014512543
Pharmaceutical Science and Clinical Pharmacology, Advisory Committee | March 17 | 3014512539
Psychopharmacologic Drugs Advisory Committee | To be announced | 3014512544
Pulmonary Allergy Drugs Advisory Committee | March 9, March 10, April dates to be announced | 3014512545
Reproductive Health Drugs, Advisory Committee | May dates to be announced | 3014512537
CENTER FOR DEVICES AND RADIOLOGICAL HEALTH
Device Good Manufacturing Practice Advisory Committee | July 22, September 16 | 3014512398
Medical Devices Advisory Committee (Comprised of 18 Panels)
Anesthesiology and Respiratory Therapy Devices Panel | April 30, June 23, September 15, November 10 | 3014512624
Circulatory System Devices Panel | February 25, May 27, September 23, December 8-9 | 3014512625
Clinical Chemistry and Clinical Toxicology Devices Panel | March 17-18, June 16-17, October 20-21 | 3014512514
Dental Products Panel | March 23, April 13, May 11, July 13, September 14 | 3014512518
Ear, Nose, and Throat Devices Panel | February 24, May 19, August 25, November 3-4 | 3014512522
Gastroenterology-Urology Devices Panel | March 11-12, June 17-18, September 9-10, December 2-3 | 3014512523
General and Plastic Surgery Devices Panel | February 4-5, May 20-21, August 12-13, November 4-5 | 3014512519
General Hospital and Personal Use Devices Panel | March 5, July 28-29, November 17-18 | 3014512520
Hematology and Pathology Devices Panel | January 21-22, April 22-23, July 8-9, October 21-22 | 3014512515
Immunology Devices Panel | April 26, September 15, December 6 | 3014512516
Medical Devices Dispute Resolution Panel | Meetings occur as needed | 3014510232
Microbiology Devices Panel | March 19, September 23 | 3014512517
Molecular and Clinical Genetics Panel | April 15, October 5-6 | 3014510231
Neurological Devices Panel | March 11-12, May 13-4, July 8-9, October 7-8, December 9-10 | 3014512513
Obstetrics and Gynecology Devices Panel | April 22-23, July 15-16, October 21-22, December 16-17 | 3014512524
Ophthalmic Devices Panel | February 25-26, April 22-23, June 24-25, October 28-29, November 18-19 | 3014512396
Orthopedic and Rehabilitation Devices Panel | March 23, June 9-10, October 13-14, December 1-2 | 3014512521
Radiological Devices Panel | April 28, July 21, September 15, November 17 | 3014512526
National Mammography Quality Assurance Advisory Committee | January 25 | 3014512397
Technical Electronic Product Radiation Safety Standards Committee | No meeting tentatively scheduled for 2010 | 3014512399
CENTER FOR FOOD SAFETY AND APPLIED NUTRITION
Food Advisory Committee | May 20-21 | 3014510564
CENTER FOR VETERINARY MEDICINE
Veterinary Medicine Advisory Committee | March 18-19 | 3014512548
NATIONAL CENTER FOR TOXILOGICAL RESEARCH (NCTR)
Science Advisory Board to NCTR | November 17-18 | 3014512559
Center for Tobacco
Tobacco Products Scientific Advisory Committee | March, May, July, and November dates to be announced | 8732110002

Dated: December 24, 2009.
David Horowitz,
Assistant Commissioner for Policy.

[FR Doc. E9-30973 Filed 12-29-09; 8:45 am]

BILLING CODE 4160-01-S